DEPARTMENT OF THE INTERIOR

National Park Service

Notice of Inventory Completion for Native American Human Remains and Associated Funerary Objects in the Possession of the Robert S. Peabody Museum of Archaeology, Andover, MA

AGENCY: National Park Service, Interior.

ACTION: Notice.

Notice is hereby given in accordance with provisions of the Native American Graves Protection and Repatriation Act (NAGPRA), 43 CFR 10.9, of the completion of an inventory of human remains and associated funerary objects in the possession of the Robert S. Peabody Museum of Archaeology, Andover, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Robert S. Peabody Museum of Archaeology professional staff in consultation with representatives of the Cheyenne River Sioux Tribe of the Cheyenne River Reservation, South Dakota; the Crow Creek Sioux Tribe of the Crow Creek Reservation, South Dakota; the Spirit Lake Tribe, North Dakota; the Lower Sioux Indian Community of Minnesota Mdewakanton Sioux Indians of the Lower Sioux Reservation in Minnesota; the Oglala Sioux Tribe of the Pine Ridge Reservation, South Dakota; the Rosebud Sioux Tribe of the Rosebud Indian Reservation, South Dakota; the Standing Rock Sioux Tribe of North and South Dakota; the Santee Sioux Tribe of the Santee Reservation of Nebraska; the Yankton Sioux Tribe of South Dakota; the Assiniboine and Sioux Tribes of the Fort Peck Indian Reservation, Montana; the Prairie Island Indian Community of Minnesota Mdewakanton Sioux Indians of the Prairie Island Reservation, Minnesota; the Upper Sioux Indian Community of the Upper Sioux Reservation, Minnesota; the Sisseton-Wahpeton Sioux Tribe of the Lake Traverse Reservation, South Dakota; the Flandreau Santee Sioux Tribe of South Dakota; the Lower Brule Sioux Tribe of the Lower Brule Reservation, South Dakota; and the Shakopee Mdewakanton Sioux Community of Minnesota (Prior Lake).

In 1869, human remains representing one individual were collected by Warren King Moorehead. In 1895, Mr. Moorehead donated these human remains to the Robert S. Peabody Museum of Archaeology. No known individual was identified. No associated funerary objects are present.

An original card with the human remains states these human remains are those of a Sioux scout killed at Summit Springs, SD, in 1869. Cultural affiliation has been established based on the information on this card. There is no existing information to contradict this finding.

Based on the above-mentioned information, officials of the Robert S. Peabody Museum of Archaeology have determined that, pursuant to 43 CFR 10.2 (d)(1), the human remains listed above represent the physical remains of one individual of Native American ancestry. Officials of the Robert S. Peabody Museum of Archaeology also have determined that, pursuant to 43 CFR 10.2 (e), there is a relationship of shared group identity that can be reasonably traced between these Native American human remains and the Cheyenne River Sioux Tribe of the Cheyenne River Reservation, South Dakota; the Crow Creek Sioux Tribe of the Crow Creek Reservation, South Dakota; the Spirit Lake Tribe, North Dakota; the Lower Sioux Indian Community of Minnesota Mdewakanton Sioux Indians of the Lower Sioux Reservation in Minnesota; the Oglala Sioux Tribe of the Pine Ridge Reservation, South Dakota; the Rosebud Sioux Tribe of the Rosebud Indian Reservation, South Dakota; the Standing Rock Sioux Tribe of North and South Dakota; the Santee Sioux Tribe of the Santee Reservation of Nebraska; the Yankton Sioux Tribe of South Dakota; the Assiniboine and Sioux Tribes of the Fort Peck Indian Reservation, Montana; the Prairie Island Indian Community of Minnesota Mdewakanton Sioux Indians of the Prairie Island Reservation, Minnesota; the Upper Sioux Indian Community of the Upper Sioux Reservation, Minnesota; the Sisseton-Wahpeton Sioux Tribe of the Lake Traverse Reservation, South Dakota; the Flandreau Santee Sioux Tribe of South Dakota; the Lower Brule Sioux Tribe of the Lower Brule Reservation, South Dakota; and the Shakopee Mdewakanton Sioux Community of Minnesota (Prior Lake). This notice has been sent to officials of the Cheyenne River Sioux Tribe of the Cheyenne River Reservation, South Dakota; the Crow Creek Sioux Tribe of the Crow Creek Reservation, South Dakota; the Spirit Lake Tribe, North Dakota; the Lower Sioux Indian Community of Minnesota Mdewakanton Sioux Indians of the Lower Sioux Reservation in Minnesota; the Oglala Sioux Tribe of the Pine Ridge Reservation, South Dakota; the Rosebud Sioux Tribe of the Rosebud Indian Reservation, South Dakota; the Standing Rock Sioux Tribe of North and South Dakota; the Santee Sioux Tribe of the Santee Reservation of Nebraska; the Yankton Sioux Tribe of South Dakota; the Assiniboine and Sioux Tribes of the Fort Peck Indian Reservation, Montana; the Prairie Island Indian Community of Minnesota Mdewakanton Sioux Indians of the Prairie Island Reservation, Minnesota; the Upper Sioux Indian Community of the Upper Sioux Reservation, Minnesota; the Sisseton-Wahpeton Sioux Tribe of the Lake Traverse Reservation, South Dakota; the Flandreau Santee Sioux Tribe of South Dakota; the Lower Brule Sioux Tribe of the Lower Brule Reservation, South Dakota; and the Shakopee Mdewakanton Sioux Community of Minnesota (Prior Lake). Representatives of any other Indian tribe that believes itself to be culturally affiliated with these human remains should contact James W. Bradley, Director, Robert S. Peabody Museum of Archaeology, Phillips Academy, Andover, MA 01810, telephone (978) 749-4490, before June 4, 2001. Repatriation of the human remains to the Cheyenne River Sioux Tribe of the Cheyenne River Reservation, South Dakota; the Crow Creek Sioux Tribe of the Crow Creek Reservation, South Dakota; the Spirit Lake Tribe, North Dakota; the Lower Sioux Indian Community of Minnesota Mdewakanton Sioux Indians of the Lower Sioux Reservation in Minnesota; the Oglala Sioux Tribe of the Pine Ridge Reservation, South Dakota; the Rosebud Sioux Tribe of the Rosebud Indian Reservation, South Dakota; the Standing Rock Sioux Tribe of North and South Dakota; the Santee Sioux Tribe of the Santee Reservation of Nebraska; the Yankton Sioux Tribe of South Dakota; the Assiniboine and Sioux Tribes of the Fort Peck Indian Reservation, Montana; the Prairie Island Indian Community of Minnesota Mdewakanton Sioux Indians of the Prairie Island Reservation, Minnesota; the Upper Sioux Indian Community of the Upper Sioux Reservation, Minnesota; the Sisseton-Wahpeton Sioux Tribe of the Lake Traverse Reservation, South Dakota; the Flandreau Santee Sioux Tribe of South Dakota; the Lower Brule Sioux Tribe of the Lower Brule Reservation, South Dakota; and the Shakopee Mdewakanton Sioux Community of Minnesota (Prior Lake) may begin after that date if no additional claimants come forward.

Dated: April 18, 2001.
John Robbins,
Assistant Director, Cultural Resources Stewardship and Partnerships.

[FR Doc. 01-11142 Filed 5-2-01; 8:45 am]

BILLING CODE 4310-70-F